DEPARTMENT OF LABOR

Office of the Secretary

Submission for OMB Review; Comment Request

August 18, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503 (202-395-7316—this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of a currently approved collection.

Title: Overpayment Recovery Questionnaire.

OMB Number: 1215-0144.

Affected Public: Individuals or households.

Frequency: On occasion.

Type of Response: Reporting.

Number of Respondents: 4,500.

Number of Annual Responses: 4,500.

Average Response Time: 60 minutes.

Total Burden Hours: 4,500.

Total Annualized Capital/Startup Costs: $0.

Total Annual Costs (operating/maintaining systems or purchasing services): $1,800.

Description: The Federal Coal Mine Health and Safety Act of 1969, as amended, 30 U.S.C. 923(b) and 20 CFR 725.544(c), and the Federal Employees' Compensation Act, 5 U.S.C. 8129(b) and 20 CFR 10.430-10.441, provide for the recovery, waiver, compromise, or termination of overpayment of benefits to beneficiaries. The Form OWCP-20 collects information used to ascertain the financial condition of the beneficiary who has been overpaid to determine if the concealment or improper transfer of assets, and to identify and consider present and potential income and current assets for enforced collection proceedings. The form also provides a means for the beneficiary to explain why he/she is not at fault for the overpayment. If this information were not collected, DOL would have little basis to decide on collection proceedings.

Ira L. Mills,
Departmental Clearance Officer.

[FR Doc. 03-22124 Filed 8-28-03; 8:45 am]

BILLING CODE 4510-CK-M